DEPARTMENT OF COMMERCE

International Trade Administration

[A-570-806]

Silicon Metal From the People's Republic of China: Continuation of Antidumping Duty Order

AGENCY: Enforcement and Compliance, International Trade Administration, Department of Commerce.

SUMMARY: As a result of the determinations by the U.S. Department of Commerce (Commerce) and the U.S. International Trade Commission (ITC) that revocation of the antidumping duty (AD) order on silicon metal from the People's Republic of China (China) would likely lead to continuation or recurrence of dumping and material injury to an industry in the United States, Commerce is publishing this notice of continuation of the AD order.

DATES: Applicable November 17, 2023.

FOR FURTHER INFORMATION CONTACT: Paul Kebker or Howard Smith, AD/CVD Operations, Office IV, Enforcement and Compliance, International Trade Administration, U.S. Department of Commerce, 1401 Constitution Avenue NW, Washington, DC 20230; telephone: (202) 482-2254 or (202) 482-5193, respectively.

SUPPLEMENTARY INFORMATION:

Background

On June 10, 1991, Commerce published in the Federal Register the AD order on silicon metal from China.¹ On May 1, 2023, the ITC instituted,² and Commerce initiated,³ the fifth sunset review of the Order, pursuant to section 751(c) of the Tariff Act of 1930, as amended (the Act). As a result of its review, Commerce determined that revocation of the Order would likely lead to continuation or recurrence of dumping and therefore, notified the ITC of the magnitude of the margins of dumping likely to prevail should the Order be revoked.⁴

¹ See Antidumping Duty Order: Silicon Metal from the People's Republic of China, 56 FR 26649 (June 10, 1991) (Order).

² See Silicon Metal from China; Institution of a Five-Year Review, 88 FR 26595 (May 1, 2023).

³ See Initiation of Five-Year (Sunset) Reviews, 88 FR 26522 (May 1, 2023).

⁴ See Silicon Metal from the People's Republic of China: Final Results of the Expedited Fifth Sunset Review of the Antidumping Duty Order, 88 FR 63933 (September 18, 2023), and accompanying Issues and Decision Memorandum.

On November 17, 2023, the ITC published its determination in the Federal Register, pursuant to sections 751(c) and 752(a) of the Act, that revocation of the Order would likely lead to continuation or recurrence of material injury to an industry in the United States within a reasonably foreseeable time.⁵

⁵ See Silicon Metal From China; Determination, 88 FR 80335 (November 17, 2023) (ITC Final Determination).

Scope of the Order

The merchandise covered by the Order is silicon metal containing at least 96.00 percent, but less than 99.99 percent of silicon by weight. Also covered by the Order is silicon metal containing between 89.00 and 96.00 percent silicon by weight but which contains a higher aluminum content than the silicon metal containing at least 96.00 percent but less than 99.99 percent silicon by weight (58 FR 27542, May 10, 1993). Silicon metal is currently provided for under subheadings 2804.69.10 and 2804.69.50 of the Harmonized Tariff Schedule of the United States (HTSUS) as a chemical product, but is commonly referred to as a metal. Semiconductor-grade silicon (silicon metal containing by weight not less than 99.99 percent of silicon and provided for in subheading 2804.61.00 of the HTSUS) is not subject to this Order. Although the HTSUS numbers are provided for convenience and customs purposes, the written description remains dispositive.

Continuation of the Order

As a result of the determinations by Commerce and the ITC that revocation of the Order would likely lead to continuation or recurrence of dumping and material injury to an industry in the United States, pursuant to section 751(d)(2) of the Act and 19 CFR 351.218(a), Commerce hereby orders the continuation of the Order. U.S. Customs and Border Protection will continue to collect AD cash deposits at the rates in effect at the time of entry for all imports of subject merchandise.

The effective date of the continuation of the Order is November 17, 2023.⁶ Pursuant to section 751(c)(2) of the Act and 19 CFR 351.218(c)(2), Commerce intends to initiate the next five-year review of the Order not later than 30 days prior to the fifth anniversary of the date of the last determination by the ITC to continue the Order.

⁶ See ITC Final Determination.

Administrative Protective Order (APO)

This notice serves as a final reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

This five-year sunset review is in accordance with sections 751(c) and 751(d)(2) of the Act and this notice is published pursuant to section 777(i) of the Act, and 19 CFR 351.218(f)(4).

Dated: November 22, 2023.
Abdelali Elouaradia,
Deputy Assistant Secretary for Enforcement and Compliance.

[FR Doc. 2023-26237 Filed 11-28-23; 8:45 am]

BILLING CODE 3510-DS-P